DEPARTMENT OF COMMERCE

International Trade Administration

[A-549-822]

Certain Frozen Warmwater Shrimp From Thailand: Final Results of Antidumping Duty Administrative Review, Final Determination of No Shipments, and Partial Rescission of Review; 2012-2013

AGENCY: Enforcement and Compliance, International Trade Administration, Department of Commerce.

SUMMARY: On March 24, 2014, the Department of Commerce (the Department) published the preliminary results of the administrative review of the antidumping duty order on certain frozen warmwater shrimp from Thailand.¹ The period of review (POR) is February 1, 2012, through January 31, 2013. Based on our analysis of the comments received, we made certain changes in the margin calculations. Therefore, the final results differ from the preliminary results. For the final results, we continue to find that all companies involved in this review sold subject merchandise at less than normal value. Finally, we find that 12 companies had no shipments of subject merchandise during the POR.

¹ See Certain Frozen Warmwater Shrimp From Thailand; Preliminary Results of Antidumping Duty Administrative Review; 2012-2013, 79 FR 15951 (March 24, 2014) (Preliminary Results).

DATES: Effective Date: August 28, 2014.

FOR FURTHER INFORMATION CONTACT: Dennis McClure or Blaine Wiltse, AD/CVD Operations, Office II, Enforcement and Compliance, International Trade Administration, U.S. Department of Commerce, 14th Street and Constitution Avenue NW, Washington, DC 20230; telephone: (202) 482-5973 or (202) 482-6345 respectively.

SUPPLEMENTARY INFORMATION:

Background

This review covers 159 producers/exporters. The respondents which the Department selected for individual examination are Thai Union Frozen Products Public Co., Ltd. and Thai Union Seafood Co., Ltd. (collectively, Thai Union) and the Pakfood Group.² On July 26, 2013, we collapsed Thai Union and Pakfood into a single entity, hereinafter referred to as “Thai Union/Pakfood”).³ The respondents which were not selected for individual examination are listed in the “Final Results of the Review” section of this notice.

² The Pakfood Group includes the following companies: Pakfood Public Company Limited, Okeanos Co. Ltd., Okeanos Food Co., Ltd., Asia Pacific (Thailand) Co., Ltd., Chaophraya Cold Storage Co. Ltd., and Takzin Samut Co. Ltd. (collectively, Pakfood).

³ In this review, the Department determined to treat the Pakfood Group as a collapsed entity with Thai Union, effective as of April 23, 2012. See Preliminary Results.

On March 24, 2014, the Department published the Preliminary Results. On March 25, 2014, we issued a memorandum stating our intention to rescind the review for two companies that the Department found not to be producers or exporters of subject merchandise, as defined in 19 CFR 351.213(b) and 351.102(b)(29)(i).⁴

⁴ See memorandum from Dennis McClure, Senior Analyst, Office II, to James Maeder, Director, Office II, entitled “Frozen Warmwater Shrimp from Thailand: Preliminary Intent to Rescind Review for GSE Lining Technology Co., Ltd. and Recission of Review for Kosamut Frozen Foods Co., Ltd.,” dated March 25, 2014.

In May 2014, we received case briefs from the American Shrimp Processors Association and Thai Union/Pakfood, and we received rebuttal briefs from the above-mentioned interested parties and the the Ad Hoc Shrimp Trade Action Committee. Also on May 15, 2014, the Department held a public hearing at the request of the respondents.

Scope of the Order

The merchandise subject to the order is certain frozen warmwater shrimp.⁵ The product is currently classified under the following Harmonized Tariff Schedule of the United States (HTSUS) item numbers: 0306.17.00.03, 0306.17.00.06, 0306.17.00.09, 0306.17.00.12, 0306.17.00.15, 0306.17.00.18, 0306.17.00.21, 0306.17.00.24, 0306.17.00.27, 0306.17.00.40, 1605.21.10.30, and 1605.29.10.10. Although the HTSUS numbers are provided for convenience and customs purposes, the written product description remains dispositive.

⁵ For a complete description of the Scope of the Order, see the memorandum from Gary Taverman, Senior Advisor for Antidumping and Countervailing Duty Operations, to Ronald K. Lorentzen, Acting Assistant Secretary for Enforcement and Compliance, entitled, “Issues and Decision Memorandum for the Final Results of the Antidumping Duty Administrative Review of Certain Frozen Warmwater Shrimp from Thailand,” (dated concurrently with these results) (Issues and Decision Memo), which is hereby adopted by this notice.

Analysis of Comments Received

All issues raised in the case briefs by parties are addressed in the Issues and Decision Memo. A list of the issues which parties raised and to which we respond in the Issues and Decision Memo is attached to this notice as Appendix I. The Issues and Decision Memo is a public document and is on file electronically via Enforcement and Compliance's Antidumping and Countervailing Duty Centralized Electronic Service System (IA ACCESS). IA ACCESS is available to registered users at http://iaaccess.trade.gov and in the Central Records Unit, room 7046 of the main Department of Commerce building. In addition, a complete version of the Issues and Decision Memo can be accessed directly on the Internet at http://www.trade.gov/ia/. The signed and electronic versions of the Issues and Decision Memo are identical in content.

Changes Since the Preliminary Results

Based on comments received from interested parties regarding our Preliminary Results, we made one change to Thai Union/Pakfood's margin calculations.

Period of Review

The POR is February 1, 2012, through January 31, 2013.

Determination of No Shipments

As noted in the Preliminary Results, we received properly-filed no shipment claims from 13 companies named in the Initiation Notice.⁶ However, as noted in the “Rescission in Part” section of this notice, below, we subsequently determined that one of these companies is not an exporter or producer of shrimp and thus we are rescinding the review with regard to this company.

⁶ See Certain Frozen Warmwater Shrimp From India and Thailand: Notice of Initiation of Antidumping Duty Administrative Reviews, 78 FR 19639 (April 2, 2013) (Initiation Notice).

Regarding the remaining 12 companies, we confirmed the claims of these companies with U.S. Customs and Border Protection (CBP). We received no comments from interested parties with respect to these claims. Therefore, because we find that the record indicates that the 12 companies listed below did not export subject merchandise to the United States during the POR, we continue to find that they had no reviewable transactions during the POR. These companies are:

(1) Anglo-Siam Seafoods Co., Ltd.;

(2) Daedong (Thailand) Co. Ltd.;

(3) Grobest Frozen Foods Co., Ltd.;

(4) Leo Global Logistics Co., Ltd;

(5) Leo Transports;

(6) Lucky Union Foods Co., Ltd.;

(7) Namprick Maesri Ltd. Part.;

(8) S.K. Foods (Thailand) Public Co. Limited;

(9) Shing-Fu Seaproducts Development Co., Ltd.;

(10) Surapon Nichirei Foods Co., Ltd.;

(11) Thai Union Manufacturing; and

(12) V. Thai Food Product Co., Ltd.

Rescission, in Part

The Department initiated this administrative review for 161 companies, including companies named GSE Lining Technology Co., Ltd. (GSE) and Kosamut Frozen Foods Co., Ltd. (Kosamut).⁷ In the Preliminary Results, we made a determination that GSE did not ship subject merchandise to the United States during the period of review, based on its certified statement of no shipments; ⁸ and we assigned Kosamut a preliminary dumping margin as a non-selected respondent.⁹

⁷ See Certain Frozen Warmwater Shrimp From India and Thailand: Notice of Initiation of Antidumping Duty Administrative Reviews, 78 FR 19639 (April 2, 2013).

⁸ See the letter from GSE to the Department dated April 16, 2013.

⁹ See Preliminary Results, 79 FR at 15953.

After issuing the preliminary results, it came to our attention that neither GSE nor Kosamut is a producer or exporter of subject merchandise, as defined in 19 CFR 351.213(b), and thus we issued a memorandum stating that the Department intended to rescind the review for both of these companies in the final results. Specifically, in its April 2013 statement of no shipments, GSE certified that it is a manufacturer of geosynthetic liners and that it is not, and has never been, involved in the sale of shrimp or other seafood. Moreover, in Shrimp AR7 Final Results,¹⁰ the Department determined that Kosamut is neither an exporter nor a manufacturer of subject merchandise, and accordingly, we rescinded the review with respect to this entity; there is no evidence on the record of this segment of the proceeding contradicting our finding with respect to Kosamut.

¹⁰ See Certain Frozen Warmwater Shrimp From Thailand: Final Results of Antidumping Duty Administrative Review, Partial Rescission of Review, and Revocation of Order (in Part); 2011-2012, 78 FR 42497, 42499 (July 16, 2013) (Shrimp AR7 Final Results).

Because no party has commented on this preliminary decision, we continue to find that GSE and Kosamut are not exporters or producers, as defined in 19 CFR 351.213(b), and, accordingly, the Department is rescinding the review with respect to GSE and Kosamut, pursuant to 19 CFR 351.213(d)(3).

Final Results of the Review

We are assigning the following dumping margins to the firms listed below as follows:

Manufacturer/exporter | Percent margin
Thai Union Frozen Products Public Co., Ltd./ | ¹¹ 1.10
Thai Union Seafood Co., Ltd./ |
Pakfood Public Company Limited/ |
Okeanos Food Co., Ltd./ |
Okeanos Co. Ltd./ |
Asia Pacific (Thailand) Co., Ltd.,/Chaophraya Cold Storage Co. Ltd./ |
Takzin Samut Co. Ltd. |

Review-Specific Average Rate Applicable to the Following Companies:

¹¹ This cash deposit rate is based on the combined sales of Thai Union and Pakfood after the companies were collapsed (i.e., sales made during the period April 23, 2012, through January 31, 2013). The rates calculated for Thai Union and Pakfood for the period February 1, 2012, through April 22, 2012, are zero percent and 2.09 percent, respectively. The calculations for the period February 1, 2012, through April 22, 2012, will be used for assessment purposes only, as noted in the “Collapsing of Thai Union and Pakfood” section of the Preliminary Decision Memorandum.

Manufacturer/exporter | Percent margin
A Foods 1991 Co., Limited | 1.10
A. Wattanachai Frozen Products Co., Ltd | 1.10
A.S. Intermarine Foods Co., Ltd | 1.10
ACU Transport Co., Ltd | 1.10
Anglo-Siam Seafoods Co., Ltd | *
Apex Maritime (Thailand) Co., Ltd. | 1.10
Apitoon Enterprise Industry Co., Ltd. | 1.10
Applied DB | 1.10
Asian Seafood Coldstorage (Sriracha) | 1.10
Asian Seafoods Coldstorage Public Co., Ltd./Asian Seafoods Coldstorage (Suratthani) Co./STC Foodpak Ltd | 1.10
Assoc. Commercial Systems | 1.10
B.S.A. Food Products Co., Ltd | 1.10
Bangkok Dehydrated Marine Product Co., Ltd | 1.10
C Y Frozen Food Co., Ltd | 1.10
CP Retailing and Marketing Co., Ltd | 1.10
C.P. Intertrade Co. Ltd | 1.10
Calsonic Kansei (Thailand) Co., Ltd | 1.10
Century Industries Co., Ltd | 1.10
Chaivaree Marine Products Co., Ltd | 1.10
Chaiwarut Co., Ltd | 1.10
Charoen Pokphand Foods Public Co., Ltd | 1.10
Chonburi LC | 1.10
Chue Eie Mong Eak Ltd. Part | 1.10
Commonwealth Trading Co., Ltd | 1.10
Core Seafood Processing Co., Ltd | 1.10
CP Merchandising Co., Ltd³ | 1.10
C.P. Mdse | 1.10
Crystal Frozen Foods Co., Ltd. and/or Crystal Seafood | 1.10
Daedong (Thailand) Co. Ltd. *
Daiei Taigen (Thailand) Co., Ltd | 1.10
Daiho (Thailand) Co., Ltd | 1.10
Dynamic Intertransport Co., Ltd | 1.10
Earth Food Manufacturing Co., Ltd | 1.10
F.A.I.T. Corporation Limited | 1.10
Far East Cold Storage Co., Ltd | 1.10
Findus (Thailand) Ltd | 1.10
Fortune Frozen Foods (Thailand) Co., Ltd | 1.10
Frozen Marine Products Co., Ltd | 1.10
Gallant Ocean (Thailand) Co., Ltd | 1.10
Gallant Seafoods Corporation | 1.10
Global Frozen Food (Thailand) Co. | 1.10
Global Maharaja Co., Ltd | 1.10
Golden Sea Frozen Foods Co., Ltd | 1.10
Golden Seafood International Co., Ltd | 1.10
Golden Thai Imp. & Exp. Co., Ltd | 1.10
Good Fortune Cold Storage Co. Ltd | 1.10
Good Luck Product Co., Ltd | 1.10
Grobest Frozen Foods Co., Ltd | *
Gulf Coast Crab Intl. | 1.10
H.A.M. International Co., Ltd | 1.10
Haitai Seafood Co., Ltd | 1.10
Handy International (Thailand) Co., Ltd | 1.10
Heng Seafood Limited Partnership | 1.10
Heritrade Co., Ltd | 1.10
HIC (Thailand) Co., Ltd | 1.10
High Way International Co., Ltd | 1.10
I.T. Foods Industries Co., Ltd | 1.10
Inter-Oceanic Resources Co., Ltd | 1.10
Inter-Pacific Marine Products Co., Ltd | 1.10
K & U Enterprise Co., Ltd | 1.10
K Fresh | 1.10
K. D. Trading Co., Ltd | 1.10
K.L. Cold Storage Co., Ltd | 1.10
KF Foods Limited | 1.10
Kiang Huat Sea Gull Trading Frozen Food Public Co., Ltd | 1.10
Kibun Trdg | 1.10
Kingfisher Holdings Ltd | 1.10
Kitchens of the Oceans (Thailand) Company, Ltd | 1.10
Klang Co., Ltd | 1.10
Kongphop Frozen Foods Co., Ltd | 1.10
Leo Global Logistics Co., Ltd | *
Lee Heng Seafood Co., Ltd | 1.10
Leo Transports | *
Li-Thai Frozen Foods Co., Ltd | 1.10
Lucky Union Foods Co., Ltd | *
Maersk Line | 1.10
Magnate & Syndicate Co., Ltd | 1.10
Mahachai Food Processing Co., Ltd | 1.10
Merit Asia Foodstuff Co., Ltd | 1.10
Merkur Co., Ltd | 1.10
Ming Chao Ind Thailand | 1.10
N&N Foods Co., Ltd | 1.10
NR Instant Produce Co., Ltd | 1.10
Namprik Maesri Ltd Part. | *
Narong Seafood Co., Ltd | 1.10
Nha Trang Seaproducts Company (“Nha Trang”) and/or Nha Trang Seaproduct Company (“NHA TRANG SEAFOODS”) | 1.10
Nongmon SMJ Products | 1.10
Ongkorn Cold Storage Co., Ltd/Thai-Ger Marine Co., Ltd | 1.10
Pacific Queen Co., Ltd | 1.10
Penta Impex Co., Ltd | 1.10
Pinwood Nineteen Ninety Nine | 1.10
Piti Seafood Co., Ltd | 1.10
Premier Frozen Products Co., Ltd | 1.10
Preserved Food Specialty Co., Ltd | 1.10
Queen Marine Food Co., Ltd | 1.10
Rayong Coldstorage (1987) Co., Ltd | 1.10
S&D Marine Products Co., Ltd | 1.10
S&P Aquarium | 1.10
S&P Syndicate Public Company Ltd | 1.10
S. Chaivaree Cold Storage Co., Ltd | 1.10
S. Khonkaen Food Industry Public Co., Ltd and/or S. Khonkaen Food Ind. Public | 1.10
S.K. Foods (Thailand) Public Co. Limited | *
Samui Foods Company Limited | 1.10
SB Inter Food Co., Ltd | 1.10
SCT Co., Ltd | 1.10
Sea Bonanza Food Co., Ltd | 1.10
SEA NT'L CO., LTD. | 1.10
Seafoods Enterprise Co., Ltd | 1.10
Seafresh Fisheries/Seafresh Industry Public Co., Ltd | 1.10
Search and Serve | 1.10
Shianlin Bangkok Co., Ltd | 1.10
Shing Fu Seaproducts Development Co. | *
Siam Food Supply Co., Ltd | 1.10
Siam Intersea Co., Ltd | 1.10
Siam Marine Products Co. Ltd | 1.10
Siam Ocean Frozen Foods Co. Ltd | 1.10
Siamchai International Food Co., Ltd | 1.10
Smile Heart Foods | 1.10
SMP Products, Co., Ltd | 1.10
Southport Seafood Co., Ltd | 1.10
Stapimex | 1.10
Star Frozen Foods Co., Ltd | 1.10
Starfoods Industries Co., Ltd | 1.10
Suntechthai Intertrading Co., Ltd | 1.10
Surapon Foods Public Co., Ltd/Surat Seafoods Public Co., Ltd | 1.10
Surapon Nichirei Foods Co., Ltd | *
Suratthani Marine Products Co., Ltd | 1.10
Suree Interfoods Co., Ltd | 1.10
T.S.F. Seafood Co., Ltd | 1.10
Tep Kinsho Foods Co., Ltd | 1.10
Teppitak Seafood Co., Ltd | 1.10
Tey Seng Cold Storage Co., Ltd | 1.10
Thai Agri Foods Public Co., Ltd | 1.10
Thai Mahachai Seafood Products Co., Ltd | 1.10
Thai Ocean Venture Co., Ltd | 1.10
Thai Patana Frozen | 1.10
Thai Prawn Culture Center Co., Ltd | 1.10
Thai Royal Frozen Food Co., Ltd | 1.10
Thai Spring Fish Co., Ltd | 1.10
Thai Union Manufacturing Company Limited | *
Thai World Imports and Exports Co., Ltd | 1.10
Thai Yoo Ltd, Part. | 1.10
The Siam Union Frozen Foods Co., Ltd | 1.10
The Union Frozen Products Co., Ltd/Bright Sea Co., Ltd | 1.10
Trang Seafood Products Public Co., Ltd | 1.10
Transamut Food Co., Ltd | 1.10
Tung Lieng Tradg | 1.10
United Cold Storage Co., Ltd | 1.10
UTXI Aquatic Products Processing Company | 1.10
V. Thai Food Product Co., Ltd | *
Xian-Ning Seafood Co., Ltd | 1.10
Yeenin Frozen Foods Co., Ltd | 1.10
YHS Singapore Pte | 1.10
ZAFCO TRDG | 1.10
* No shipments or sales subject to this review.

Assessment Rates

The Department shall determine, and CBP shall assess, antidumping duties on all appropriate entries. Pursuant to 19 CFR 351.212(b)(1), for entries of Thai Union/Pakfood's subject merchandise made from April 23, 2012, through January 31, 2013, we have calculated importer-specific ad valorem duty assessment rates based on the ratio of the total amount of antidumping duties calculated for the examined sales to the total entered value of the sales. With respect to entries of subject merchandise by Thai Union and Pakfood prior to April 23, 2012, we have calculated importer-specific ad valorem duty assessment rates using the individual company information based on the same method noted above. To determine whether the duty assessment rates are de minimis, in accordance with the requirement set forth in 19 CFR 351.106(c)(2), we have calculated importer-specific ad valorem ratios based on the entered value. For the companies which were not selected for individual examination, we have used as the assessment rate the cash deposit rate assigned to Thai Union/Pakfood, in accordance with our practice.¹² The Department intends to issue assessment instructions to CBP 15 days after the date of publication of these final results of review.

¹² See Shrimp AR7 Final Results, 78 FR at 42500.

Cash Deposit Requirements

The following cash deposit requirements will be effective for all shipments of subject merchandise entered, or withdrawn from warehouse, for consumption on or after the publication date of the final results of this administrative review, as provided by section 751(a)(2)(C) of the Act: (1) The cash deposit rates for the reviewed companies will be the rates shown above, except if the rate is less than 0.50 percent (de minimis within the meaning of 19 CFR 351.106(c)(1)) the cash deposit will be zero; (2) for previously reviewed or investigated companies not listed above, the cash deposit rate will continue to be the company-specific rate published for the most recent period; (3) if the exporter is not a firm covered in this review, a previous review, or the original LTFV investigation, but the manufacturer is, the cash deposit rate will be the rate established for the most recent period for the manufacturer of the merchandise; and (4) the cash deposit rate for all other manufacturers or exporters will continue to be 5.34 percent, the all-others rate made effective by the Section 129 Determination.¹³ These deposit requirements, when imposed, shall remain in effect until further notice.

¹³ Effective January 16, 2009, there is no longer a cash deposit requirement for certain producers/exporters in accordance with the Implementation of the Findings of the WTO Panel in United States Antidumping Measure on Shrimp from Thailand: Notice of Determination under Section 129 of the Uruguay Round Agreements Act and Partial Revocation of the Antidumping Duty Order on Frozen Warmwater Shrimp from Thailand, 74 FR 5638 (January 30, 2009) (Section 129 Determination).

Notification to Importers

This notice serves as the only reminder to importers of their responsibility, under 19 CFR 351.402(f)(2), to file a certificate regarding the reimbursement of antidumping duties prior to liquidation of the relevant entries during this review period. Failure to comply with this requirement could result in the Secretary's presumption that reimbursement of antidumping duties occurred and the subsequent assessment of double antidumping duties.

Notification Regarding Administrative Protective Order

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

This notice is published in accordance with sections 751(a)(1) and 777(i)(1) of the Tariff Act of 1930, as amended, and 19 CFR 351.213(d)(4) and 19 CFR 351.221(b)(5).

Ronald K. Lorentzen,
Acting Assistant Secretary for Enforcement and Compliance.

Appendix I

List of Topics Discussed in the Issues and Decision Memorandum

Summary

Background

Margin Calculations

Scope of the Order

Discussion of the Issues

Comment 1: Legal Authority to Consider an Alternative Comparison Method in an Administrative Review

Comment 2: Differential Pricing Analysis: Relevance of Thresholds and the Administrative Procedures Act (APA)

Comment 3: Differential Pricing Analysis: Statistical Significance of Sample Size

Comment 4: Differential Pricing Analysis: Application of the A-to-T Method for Thai Union's U.S. Sales

Comment 5: Denial of Offsets for Non-Dumped Sales When Using the Average-to-Transaction Method

Comment 6: Comparison of Sales Between Collapsed and Uncollapsed Parties

Comment 7: Calculation of Costs for Thai Union/Pakfood

Comment 8: Calculation of Multiple Importer-Specific Assessment Rates

Comment 9: Calculation of the Assessment Rate for Shrimp Imported in Rings with Sauce

Comment 10: Appropriate Language in Liquidation Instructions Recommendation

[FR Doc. 2014-20524 Filed 8-27-14; 8:45 am]

BILLING CODE 3510-DS-P